SMALL BUSINESS ADMINISTRATION

[Disaster Declaration #13827 and #13828]

Nebraska Disaster Number NE-00055

AGENCY: U.S. Small Business Administration.

ACTION: Amendment 1.

SUMMARY: This is an amendment of the Presidential declaration of a major disaster for Public Assistance Only for the State of Nebraska (FEMA—4156—DR), dated 11/26/2013.

Incident: Severe Storms, Winter Storms, Tornadoes, and Flooding

Incident Period: 10/02/2013 through 10/06/2013

Effective Date: 01/07/2014

Physical Loan Application Deadline Date: 01/27/2014

Economic Injury (EIDL) Loan Application Deadline Date: 08/25/2014

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of NEBRASKA, dated 11/26/2013, is hereby amended to include the following areas as adversely affected by the disaster.

Primary Counties: Greeley.

All other information in the original declaration remains unchanged.

(Catalog of Federal Domestic Assistance Numbers 59002 and 59008)

James E. Rivera,
Associate Administrator for Disaster Assistance.

[FR Doc. 2014-00557 Filed 1-14-14; 8:45 am]

BILLING CODE 8025-01-P